DEPARTMENT OF EDUCATION

President's Advisory Commission on Educational Excellence for Hispanic Americans

AGENCY: President's Advisory Commission on Educational Excellence for Hispanic Americans, Department of Education.

ACTION: To amend the notice printed in the Federal Register, Vol. 68, No. 39, Thursday, February 27, 2003.

SUMMARY: This notice sets forth a change in date of a forthcoming teleconference meeting of the President's Advisory Commission on Educational Excellence for Hispanic Americans.

DATES: Originally rescheduled for Tuesday, March 4, 2003, this teleconference meeting has been rescheduled for Friday, March 14, 2003, the hour and location to be determined.

FOR FURTHER INFORMATION CONTACT: Leslie Sanchez, Executive Director, or Adam Chavarria, Associate Director, White House Initiative on Educational Excellence for Hispanic Americans 400 Maryland Avenue, SW., Washington, DC 20202, (202) 401-1411.

SUPPLEMENTARY INFORMATION: Individuals who will need accommodations for a disability in order to observe the meeting (e.g., interpreting services, assistive listening devices, or materials in alternative format) should notify Adam Chavarria at (202) 401-1411 by no later than March 12, 2003. We will attempt to meet requests after this date but cannot guarantee availability of the requested accommodation. The meeting site is accessible to individuals with disabilities.

Dated: March 6, 2003.
William D. Hansen,
Deputy Secretary, U.S. Department of Education.

[FR Doc. 03-5830 Filed 3-11-03; 8:45 am]

BILLING CODE 4000-01-M